DEPARTMENT OF TRANSPORTATION

Federal Aviation Administration

14 CFR Part 39

[Docket No. FAA-2012-0269; Directorate Identifier 2011-NM-105-AD]

RIN 2120-AA64

Airworthiness Directives; Dassault Aviation Airplanes

AGENCY: Federal Aviation Administration (FAA), DOT.

ACTION: Notice of proposed rulemaking (NPRM).

SUMMARY: We propose to adopt a new airworthiness directive (AD) for certain Dassault Aviation Model FALCON 7X airplanes. This proposed AD was prompted by a report that a passenger oxygen pipe at frame 10 was chafing against the forward lavatory rear structure, raising the risk of the oxygen pipe developing a crack. This proposed AD would require modifying the routing of and, if necessary, replacing, the oxygen pipe. We are proposing this AD to prevent rupture of the oxygen pipe which, in case of a cabin depressurization, would impair operation of the passenger oxygen distribution system.

DATES: We must receive comments on this proposed AD by May 4, 2012.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Dassault Falcon Jet, P.O. Box 2000, South Hackensack, New Jersey 07606; telephone 201-440-6700; Internet http://www.dassaultfalcon.com. You may review copies of the referenced service information at the FAA, Transport Airplane Directorate, 1601 Lind Avenue SW., Renton, Washington. For information on the availability of this material at the FAA, call 425-227-1221.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Tom Rodriguez, Aerospace Engineer, International Branch, ANM-116, Transport Airplane Directorate, FAA, 1601 Lind Avenue SW., Renton, Washington 98057-3356; telephone (425) 227-1137; fax (425) 227-1149.

SUPPLEMENTARY INFORMATION:

Comments Invited

We invite you to send any written relevant data, views, or arguments about this proposed AD. Send your comments to an address listed under the ADDRESSES section. Include “Docket No. FAA-2012-0269; Directorate Identifier 2011-NM-105-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2011-0070, dated April 18, 2011 (referred to after this as “the MCAI”), to correct an unsafe condition for the specified products. The MCAI states:

Inspections of two aeroplanes during cabin completions have shown that a passenger oxygen line at frame 10 was chafing with the forward lavatory rear structure.

Design review of the area confirmed a local low clearance value which raises the risk of the oxygen line developing a crack.

This condition, if not detected and corrected, could lead to rupture of the oxygen line which, in case of a cabin depressurization, would impair operation of the passengers' oxygen distribution system.

To address this unsafe condition, Dassault Aviation have designed a modification with a new oxygen line routing.

This AD requires an [general visual] inspection of the oxygen line for interference or damage and, in case of discrepancies [damage, or clearance less than 3 mm], accomplishment of the modification [including general visual inspections, and, if necessary, replacing the oxygen line/pipe] before next flight. It requires as well accomplishment of the modification of the oxygen line routing for the aeroplanes in which [clearance of 3 mm or more but less than 12 mm] were identified.

You may obtain further information by examining the MCAI in the AD docket.

Relevant Service Information

Dassault Aviation has issued Mandatory Service Bulletin 7X-174, dated March 10, 2011. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

This AD differs from the MCAI and/or service information as follows: The MCAI specifies that all airplanes must be modified before further flight if any discrepancy is found, and if no discrepancy, the modification must be done within 98 months or 4,000 flight cycles. This AD requires modification before further flight if damage or a certain clearance is found, and if a certain other clearance is found, modification within 98 months or 4,000 flight cycles. No modification is necessary for airplanes having a clearance of 12 mm or more.

Costs of Compliance

Based on the service information, we estimate that this proposed AD would affect about 11 products of U.S. registry. We also estimate that it would take about 11 work-hours per product to comply with the basic requirements of this proposed AD. The average labor rate is $85 per work-hour. Based on these figures, we estimate the cost of the proposed AD on U.S. operators to be $10,285, or $935 per product.

In addition, we estimate that any necessary follow-on actions would take about 16 work-hours and require parts costing $655, for a cost of $2,015 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not affect intrastate aviation in Alaska; and

4. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Dassault Aviation: Docket No. FAA-2012-0269; Directorate Identifier 2011-NM-105-AD.

(a) Comments Due Date

We must receive comments by May 4, 2012.

(b) Affected ADs

None.

(c) Applicability

This AD applies to Dassault Aviation Model FALCON 7X airplanes, certificated in any category, serial numbers 3, 10, 13, 18, 19, 20, 22, 23, 24, 26, 27, 29, 30, 31, 32, 33, 35, 36, 38, 41, 42, 43, 47, 48, 58, 63, 64, 66, 67, 68, 71, 76, 78, 79, 83, 84, 85, 86, 87, and 93; except for airplanes on which the Dassault Aviation modification specified in Dassault Mandatory Service Bulletin 7X-174, has been incorporated.

(d) Subject

Air Transport Association (ATA) of America Code 35: Oxygen.

(e) Reason

This AD was prompted by a report that a passenger oxygen pipe at frame 10 was chafing against the forward lavatory rear structure, raising the risk of the oxygen pipe developing a crack. We are issuing this AD to prevent rupture of the oxygen pipe which, in case of a cabin depressurization, would impair operation of the passenger oxygen distribution system.

(f) Compliance

You are responsible for having the actions required by this AD performed within the compliance times specified, unless the actions have already been done.

(g) Inspection

Within 2 months after the effective date of this AD, do a boroscope inspection of the passenger oxygen pipe for clearance and a general visual inspection for damage of the oxygen pipe, in accordance with the Accomplishment Instructions of Dassault Mandatory Service Bulletin 7X-174, dated March 10, 2011.

(h) Corrective Actions

If during any inspection required by paragraph (g) of this AD any damage is found or oxygen pipe clearance is less than 3 millimeters (mm) (0.12 inch): Before further flight, modify the oxygen pipe routing, including doing a general visual inspection for chafing of the pipe and doing all applicable replacements, in accordance with the Accomplishment Instructions of Dassault Mandatory Service Bulletin 7X-174, dated March 10, 2011.

(i) Oxygen Pipe Routing Modification

If, during any inspection required by paragraph (g) of this AD, oxygen pipe clearance is 3 mm (0.12 inch) or more but less than 12 mm (0.47 inch): Within 98 months or 4,000 flight cycles after the effective date of this AD, whichever occurs first, modify the routing of the passenger oxygen pipe, including doing a general visual inspection for chafing of the pipe and doing all applicable replacements, in accordance with the Accomplishment Instructions of Dassault Mandatory Service Bulletin 7X-174, dated March 10, 2011.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, Washington 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(k) Related Information

Refer to MCAI European Aviation Safety Agency (EASA) Airworthiness Directive 2011-0070, dated April 18, 2011; and Dassault Mandatory Service Bulletin 7X-174, Initial Issuance, dated March 10, 2011; for related information.

Issued in Renton, Washington, on March 9, 2012.
Ali Bahrami,
Manager, Transport Airplane Directorate, Aircraft Certification Service.

[FR Doc. 2012-6627 Filed 3-19-12; 8:45 am]

BILLING CODE 4910-13-P